DEPARTMENT OF HOMELAND SECURITY

Federal Emergency Management Agency

National Flood Insurance Program (NFIP); Assistance to Private Sector Property Insurers

AGENCY: Federal Emergency Management Agency, DHS.

ACTION: Notice.

SUMMARY: Each year the Federal Emergency Management Agency (FEMA) is required by the Write-Your-Own (WYO) program Financial Assistance/Subsidy Arrangement (Arrangement) to notify the private insurance companies (Companies) and make available to the Companies the terms for subscription or re-subscription to the Arrangement. In keeping with that requirement, this notice provides the terms to the Companies to subscribe or re-subscribe to the Arrangement.

FOR FURTHER INFORMATION CONTACT: Edward L. Connor, FEMA, 500 C Street, SW., Washington, DC 20472, 202-646-3429 (phone), 202-646-3445 (facsimile), or Edward.Connor@dhs.gov (e-mail).

SUPPLEMENTARY INFORMATION: Under the Arrangement, approximately 90 private sector property insurers issue flood insurance policies and adjust flood insurance claims under their own names based on the Arrangement with the Federal Insurance Administration (FIA) (44 CFR part 62, appendix A). The WYO insurers receive an expense allowance and remit the remaining premium to the Federal Government. The Federal Government pays WYO insurers for flood losses and pays loss adjustment expenses based on a fee schedule. Litigation costs, including court costs, attorney fees, judgments, and settlements, are paid by FIA based on submitted documentation. The Arrangement provides that under certain circumstances reimbursement for litigation costs will not be made. The complete Arrangement is published in 44 CFR part 62, appendix A. Each year FEMA is required to publish in the Federal Register and make available to the Companies the terms for subscription or re-subscription to the Financial Assistance/Subsidy Arrangement. During the 2006-2007 Arrangement year FEMA published (71 FR 54678, Sept. 18, 2006) notice of the changes to the Arrangement. No changes have been made to the Arrangement since the publication of the previous notice; however changes to the arrangement are contemplated for the future.

During September 2007, FEMA will send a copy of the offer for the 2007-2008 Arrangement year, together with related materials and submission instructions, to all private insurance companies participating under the current 2006-2007 Arrangement. Any private insurance company not currently participating in the WYO Program but wishing to consider FEMA's offer for 2007-2008 may request a copy by writing: Federal Emergency Management Agency, Mitigation Division, Attn: WYO Program, 500 C Street, SW., Washington, DC 20472, or contact Edward Connor at 202-646-3445 (facsimile), or Edward.Connor@dhs.gov (e-mail).

Dated: July 23, 2007.
David I. Maurstad,
Federal Insurance Administrator of the National Flood Insurance Program, Federal Emergency Management Agency, Department of Homeland Security.

[FR Doc. E7-14716 Filed 7-30-07; 8:45 am]

BILLING CODE 9110-11-P